DEPARTMENT OF HOUSING AND URBAN DEVELOPMENT

Notice of Amendment and Technical Correction to the Notice of Funding

[Docket No. FR-5500-N-06]

Availability (NOFA) for HUD's Fiscal Year (FY) 2011 Asthma Interventions in Public and Assisted Multifamily Housing Program

AGENCY: Office of Healthy Homes and Lead Hazard Control, HUD.

ACTION: Notice of Availability, Amendment, and Technical Corrections to the Notice of Funding Availability (NOFA) for HUD's Fiscal Year (FY) 2011 Asthma Interventions in Public and Assisted Multifamily Housing Program, FR-5500-N-06.

SUMMARY: On April 8, 2011, HUD posted the Notice of Funding Availability (NOFA) for the Fiscal Year (FY) 2011 Asthma Interventions in Public and Assisted Multifamily Housing Program to Grants.gov (FR-5500-N-06). The NOFA announced the availability of information on applicant eligibility, submission deadlines, funding criteria, and other requirements for HUD's FY 2011 Asthma Interventions in Public and Assisted Multifamily Housing Program. The posted NOFA indicated the total amount of funding available was subject to enactment of HUD appropriations.

On May 12, 2011, HUD posted an amendment to the NOFA which provided the funding available as a result of enactment of the HUD appropriations Act, the Department of Defense and Full-Year Continuing Appropriations Act, 2011, Public Law 112-10, approved April 15, 2011, and other technical corrections. Based on the enactment of the FY 2011 HUD appropriations, approximately $2 million is available for the Asthma Interventions in Public and Assisted Multifamily Housing Program.

The notice also amended the deadline date for applications as a result of the technical corrections. The new deadline date for this NOFA is 11:59:59 p.m. June 14, 2011.

The purpose of the Asthma Interventions in Public and Assisted Multifamily Housing program is to fund demonstration projects to improve asthma control among children and others currently residing in Federally assisted multifamily housing developments that are administered by local public housing authorities (i.e., public housing) as well as privately owned multifamily housing that is subsidized by HUD (e.g., Project-based Section 8, section 202, and section 811 housing).

The posting to Grants.gov provides information regarding the application process, funding criteria and eligibility requirements, application and instructions, and amendment and technical corrections. The information can be found using the Department of Housing and Urban Development agency link on the Grants.gov/Find Web site at http://www.grants.gov/search/agency.do. A link to the funding opportunity is also available on the HUD Web site at http://portal.hud.gov/hudportal/HUD?src=/program_offices/administration/grants/fundsavail.

The link from the funds available page will take you to the agency link on Grants.gov. The Catalogue of Federal Domestic Assistance (CFDA) number for the Asthma Interventions in Public and Assisted Housing is 14.914. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: May 16, 2011.
Barbara S. Dorf,
Director, Office of Departmental Grants Management and Oversight, Office of the Chief of the Human Capital Officer.

[FR Doc. 2011-12379 Filed 5-19-11; 8:45 am]

BILLING CODE P